DEPARTMENT OF ENERGY

Federal Energy Regulatory Commission

[Project No. 13225-000; Project No. 13440-000]

KW Sackheim Development; Bradley D. Reeves; Notice of Competing Preliminary Permit Applications Accepted for Filing and Soliciting Comment, Motions To Intervene, and Competing Applications

August 20, 2009.

KW Sackheim Development (Sackheim) and Bradley D. Reeves (Reeves) filed preliminary permit applications, pursuant to section 4(f) of the Federal Power Act, proposing to study the feasibility of the Lake Valley Canal Project, to be located between the North Fork of the North Fork American River and Drum canal in Placer County, California. The same project is referred to as the Parshall Canal Project in the Reeves application. The Sackheim application also proposes to study the feasibility of two additional sites: (1) The Bear-Halsey drop on Bear Creek canal to the Halsey forebay in Placer County, California; and (2) the Wise-Rock drop on the Wise canal to Rock Creek reservoir in Placer County, California. All three of the above sites are non-generating features of the Pacific Gas and Electric Company's (PG&E) Drum Spaulding Project No. 2310. The Sackheim application was filed on May 12, 2008, and the Reeves application was filed on April 28, 2009. The sole purpose of a preliminary permit, if issued, is to grant the permit holder priority to file a license application during the permit term. A preliminary permit does not authorize the permit holder to perform any land disturbing activities or otherwise enter upon lands or waters owned by others without the owners' express permission.

The Lake Valley Canal Project proposed by Sackheim would consist of: (1) The existing 8,400-foot-long Lake Valley canal between the North Fork of the North Fork American River and Drum canal; (2) an existing 30-inch-diameter, 210-foot-long pipeline serving as a penstock; (3) a new powerhouse containing a single Pelton type turbine generator rated at 1,300 kilowatts; (4) approximately 800 feet of new three-phase power line following an existing PG&E road and an upgrade of 1,600 feet of existing transmission line from single-phase to 3-phase. The proposed Lake Valley Canal Project would have an average annual generation of 4 gigawatt-hours.

The Parshall Canal Project proposed by Reeves would consist of: (1) The existing 8,400-foot-long canal between the North Fork of the North Fork of the American River and Drum canal; (2) an existing 2,100 feet long, 30-inch-diameter pipeline serving as a penstock; (3) a proposed new powerhouse with a single Pelton type generator rated at 1,050 kilowatts; (4) approximately 800 feet of three-phase transmission line following an existing PG&E road along the Drum canal and an upgrade of 1,600 feet of single-phase line to three-phase line. The proposed Parshall Canal Project would have an average annual generation of 4 gigawatt-hours.

The following two developments are only proposed by Sackheim:

The Bear River Canal-Halsey Drop development would consist of: (1) The 30-foot drop at the end of the Bear River canal and dropping down to the Halsey forebay; (2) a new powerhouse enclosing a propeller or bulb type turbine generator rated at 800 kilowatts, located at the terminus of the Bear River canal discharge to the Halsey forebay; and (3) approximately 200 feet of new three-phase power line and the upgrade of approximately 1,400 feet of single-phase line to three-phase line.

The Wise Canal-Rock Creek reservoir development would consist of: (1) The existing Wise canal from the Rock Creek diversion to Rock Creek reservoir; (2) a new powerhouse containing a bulb type or propeller turbine generator rated at 900 kilowatts; (3) a 12-kva transformer and ancillary equipment; and (4) a new 700-foot-long, 12-kilovolt transmission line.

Applicants Contact: For Sackheim: Kelley W. Sackheim, 5096 Cocoa Palm Way, Fair Oaks, CA 95628, 916-962-2271. For Reeves: Bradley D. Reeves, P.O. Box 4313, Auburn, CA 95604, 530-367-4156.

FERC Contact: Joseph Hassell, (202) 502-8079.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of the Commission's Web site at http://www.ferc.gov/docs-filing/elibrary.asp. Enter the docket number (P-13225 or P-13440) in the docket number field to access the document. For assistance, call toll-free 1-866-208-3372.

Kimberly D. Bose,
Secretary.

[FR Doc. E9-20644 Filed 8-26-09; 8:45 am]

BILLING CODE 6717-01-P